DEPARTMENT OF THE INTERIOR

National Park Service

[4240-CEBE-409]

Record of Decision

AGENCY: National Park Service, Interior.

ACTION: Notice of Availability of the Record of Decision on the General Management Plan/Environmental Impact Statement for Cedar Creek and Belle Grove National Historic Park.

SUMMARY: Pursuant to the National Environmental Policy Act of 1969, as amended [42 U.S.C. 4332(2)(C)], the National Park Service (NPS) announces the availability of the Record of Decision for the General Management Plan/Environmental Impact Statement (GMP/EIS) for Cedar Creek and Belle Grove National Historic Park (NHP) in Frederick, Shenandoah, and Warren Counties, Virginia. The Regional Director, Northeast Region, approved the Record of Decision for the GMP/EIS, selecting Action Alternative D, the NPS preferred alternative, as described in the Final GMP/EIS issued on January 21, 2011. The Record of Decision (ROD) includes a statement of the decision made, a synopsis of other alternatives considered, the basis for the decision, a description of the environmentally preferable alternative, a finding on impairment of park resources and values, a listing of measures to minimize environmental harm, and an overview of public involvement in the decision-making process. The approved General Management Plan will guide long-term management of Cedar Creek and Belle Grove NHP. As soon as practicable, the NPS will begin to implement the selected alternative.

FOR FURTHER INFORMATION CONTACT: Diann Jacox, Superintendent, Cedar Creek and Belle Grove National Historical Park, 7718 ½; Main Street, Middletown, Virginia 22645, (540) 868-9176.

SUPPLEMENTARY INFORMATION: Cedar Creek and Belle Grove NHP was created by Congress in December 2002 to help preserve, protect, and interpret a nationally significant Civil War landscape and antebellum plantation; to tell the rich story of Shenandoah Valley history; to preserve historic, natural, cultural, military, and scenic resources; and to serve as a focal point within the Shenandoah Valley Battlefields National Historic District. Cedar Creek and Belle Grove NHP is a partnership park, currently with limited property in federal ownership, that works collaboratively with other entities who provide the foundation for protecting, preserving, and interpreting park resources by virtue of their ownership of significant acreage within the park, their commitment to a shared preservation ethic, their willingness to provide visitor services and public access, and their consent to manage their property as part of the national historical park.

The approved general management plan provides the NPS and key partners with the necessary framework to guide the management of the park for the next 15 to 20 years. This is the first general management plan for the park; it is intended to be a useful, long-term decision-making tool, providing a logical and trackable rationale for decisions about protection and public use of park resources.

The Final GMP/EIS presented and evaluated four management alternatives developed around the need to define an appropriate role for the NPS at the park. Among the alternatives considered, Action Alternative D, the selected alternative, best protects the diversity of park resources while also maintaining a range of quality visitor experiences.

The selected alternative will enable visitors to experience the park at an NPS developed and managed visitor center and at visitor focal areas owned and managed by the NPS and key partners. The NPS and the key partners will coordinate interpretive programs at these sites. Visitors will access the park via auto-touring routes and an extensive system of non-motorized trails that provide opportunities for interpretation and recreation, connect focal areas, and tie to communities and resources outside the park. The NPS and the key partners will develop a coordinated land protection plan focused on acquisition of cultural landscapes, sensitive natural resource areas, and lands providing connections between NPS and key partner properties. The NPS and the key partners will have formal agreements that define responsibilities for special projects, programs, events, and specific park operations.

This decision is the result of a public planning process that began in 2005. Between 2005 and 2008, prior to the release of the Draft GMP/EIS, NPS staff met with and briefed representatives from numerous agencies and organizations about the GMP and NPS's future plans Cedar Creek and Belle Grove NHP. Additional public involvement activities followed the release of the Draft GMP/EIS and a detailed analysis of public comments received and NPS responses are provided in Appendix F of the Final GMP/EIS.

Copies of the Record of Decision may be obtained from the above contact or online at http://parkplanning.nps.gov/cebe.

Dated: April 15, 2011.
Dennis R. Reidenbach,
Regional Director, Northeast Region, National Park Service.

[FR Doc. 2011-19520 Filed 8-1-11; 8:45 am]

BILLING CODE 4310-AR-P